DEPARTMENT OF THE INTERIOR

Fish and Wildlife Service

50 CFR Part 17

RIN 1018-AH94

Endangered and Threatened Wildlife and Plants; Designation of Critical Habitat for Blackburn's Sphinx Moth

AGENCY: Fish and Wildlife Service, Interior.

ACTION: Proposed rule; notice of availability of draft economic analysis.

SUMMARY: We, the U.S. Fish and Wildlife Service, announce the availability of the draft economic analysis for the proposed designations of critical habitat for the Blackburn's sphinx moth (Manduca blackburni) on the islands of Maui, Hawaii, Molokai, and Kahoolawe, Hawaii. The comment period to allow peer reviewers and all interested parties to comment simultaneously on the proposed rule (67 FR 54763) and the associated draft economic analysis currently ends on December 30, 2002. Over a 10-year period, the draft economic analysis shows a range of direct costs from $1.2 to 1.9 million, and the possibility of indirect costs approaching $500 million. However, many of the indirect costs shown in the analysis result from uncertain and possibly unlikely future private and governmental actions, and we expressly request comments as to the likelihood of these actions occurring and of the indicated costs from these possible actions being incurred. Comments previously submitted need not be resubmitted as they will be incorporated into the public record as part of this extended comment period and will be fully considered in preparation of the final rule.

DATES: We will accept public comments until December 30, 2002. Any comments received by the closing date will be considered in the final decision on this proposal.

ADDRESSES: Written comments and information should be submitted to Field Supervisor, U.S. Fish and Wildlife Service, Pacific Islands Office, 300 Ala Moana Blvd., P.O. Box 50088, Honolulu, HI 96850-0001. Copies of the draft economic analysis are available on the Internet at http://pacificislands.fws.gov or by request from the Field Supervisor at above address and 808/541-3441. For further instructions on commenting, refer to Public Comments Solicited section of this notice.

FOR FURTHER INFORMATION CONTACT: Paul Henson, Field Supervisor, Pacific Islands Office, at the above address (telephone: 808/541-3441; facsimile: 808/541-3470).

SUPPLEMENTARY INFORMATION:

Background

An initial comprehensive Notice of Review for Invertebrate Animals was published in the Federal Register on May 22, 1984 (49 FR 21664). In that notice, we identified Blackburn's sphinx moth as a category 3A taxon. Category 3A taxa were those for which we had persuasive evidence of extinction. We published an updated Notice of Review for animals on January 6, 1989 (54 FR 554). Although Blackburn's sphinx moth had been rediscovered by 1985, in the 1989 Notice of Review this taxon was again identified as category 3A. In the next Notice of Review on November 15, 1994 (59 FR 58982), this species was reclassified as a category 1 candidate for listing. Category 1 candidates were those taxa for which we had on file sufficient information on biological vulnerability and threats to support preparation of listing proposals. Beginning with our February 28, 1996, Notice of Review (61 FR 7596), we discontinued the designation of multiple categories of candidates, and only those taxa meeting the definition of former category 1 candidates are now considered candidates for listing purposes. In the February 28, 1996, Notice of Review, we identified Blackburn's sphinx moth as a candidate species (61 FR 7596). A proposed rule to list Blackburn's sphinx moth as endangered was published on April 2, 1997 (62 FR 15640). In the September 19, 1997, Notice of Review (62 FR 49398), this species was included as proposed for endangered status.

A final listing rule, listing the Blackburn's sphinx moth as endangered, was published in the Federal Register on February 1, 2000 (65 FR 4770). In that final rule, we determined that critical habitat designation for the moth would be prudent, and we also indicated that we were not able to develop a proposed critical habitat designation for the species at that time due to budgetary and workload constraints.

On June 2, 2000, we were ordered by the U.S. District Court for the District of Hawaii (in Center for Biological Diversity v. Babbitt, Civil No. 99-00603) to publish the final critical habitat designation for Blackburn's sphinx moth by February 1, 2002. The plaintiffs and the Service have entered into a consent decree agreeing to extend the deadline to May 30, 2003. Center for Biological Diversity, et al. v. Norton, Civ. No. 99-00603 (Aug. 22, 2002).

In response to the court order, on June 13, 2002, we published a proposed critical habitat rule for the Blackburn's sphinx moth. The species is known historically from the islands of Hawaii, Kauai, Maui, Molokai, and Oahu, and known currently from the islands of Hawaii, Kahoolawe, and Maui (67 FR 40633). We proposed a total of approximately 40,240 hectares (99,433 acres) on the islands of Maui, Hawaii, Molokai, and Kahoolawe.

Critical habitat receives protection from destruction or adverse modification through required consultation under section 7 of the Act (16 U.S.C. 1531 et seq.) with regard to actions carried out, funded, or authorized by a Federal agency. Section 4(b)(2) of the Act requires that the Secretary designate critical habitat based upon the best scientific and commercial data available, and after taking into consideration the economic impact of specifying any particular area as critical habitat. We have prepared a draft economic analysis of the proposed critical habitat designation. The draft economic analysis is available on the Internet and from the mailing address in the Public Comments Solicited section below.

The public comment period for the June 13, 2002, proposal originally closed on August 12, 2002. On August 26, 2002, we published a Federal Register notice (67 FR 54763) extending the comment period for the proposed designation of critical habitat for Blackburn's sphinx moth. We are now announcing the availability of the draft economic analysis. We will accept public comments on the proposal and the associated draft economic analysis for the Blackburn's sphinx moth until December 30, 2002. Comments already submitted on the proposed designation of critical habitat for the Blackburn's sphinx moth do not need to be resubmitted as they will be fully considered in the final determinations. Written comments should be submitted to us (see ADDRESSES).

Public Comments Solicited

We will accept written comments and information on the proposed critical habitat designation and draft economic analysis for Blackburn's sphinx moth. If you wish to comment, you may submit your comments and materials concerning the proposal and draft economic analysis by the following methods:

(1) You may submit written comments and information to the Field Supervisor by mail, U.S. Fish and Wildlife Service, Pacific Islands Office, 300 Ala Moana Blvd., P.O. Box 50088, Honolulu, HI 96850-0001, or by facsimile, (808) 541-3470.

(2) You may hand-deliver comments to our Honolulu Fish and Wildlife Office at the address given above.

Comments and materials received, as well as supporting documentation used in preparation of the proposal to designate critical habitat, will be available for inspection, by appointment, during normal business hours at the address under (1) above. Copies of the draft economic analysis are available on the Internet at http://pacificislands.fws.gov or by request from the Field Supervisor at the address and phone number under (1) above.

Author(s)

The primary author of this notice is Mike Richardson (see ADDRESSES).

Authority

The authority for this action is the Endangered Species Act of 1973 (16 U.S.C. 1531 et seq.).

Dated: November 5, 2002.
Paul Hoffman,
Acting Assistant Secretary for Fish and Wildlife and Parks.

[FR Doc. 02-29049 Filed 11-12-02; 3:04 pm]

BILLING CODE 4310-55-P